DEPARTMENT OF ENERGY

Federal Energy Regulatory Commission

[Docket No. CP10-441-000]

Transcontinental Gas Pipe Line Company, LLC; Notice of Request Under Blanket Authorization

May 27, 2010.

Take notice that on May 24, 2010, Transcontinental Gas Pipe Line Company, LLC (Transco), Post Office Box 1396, Houston, Texas 77251, filed in Docket No. CP10-441-000, an application pursuant to sections 157.205, 157.208, and 157.212 of the Commission's Regulations under the Natural Gas Act (NGA) as amended, to construct and operate a new interconnection on Transco's Southwest Louisiana Lateral to allow Transco to receive natural gas and regasified liquefied natural gas (LNG) in Johnsons Bayou, Cameron Parish, Louisiana, under Transco's blanket certificate issued in Docket No. CP82-426-000,¹ all as more fully set forth in the application which is on file with the Commission and open to the public for inspection.

¹ 20 FERC ¶ 62,420 (1982).

Transco proposes to construct and operate a delivery interconnect off its Southwest Louisiana Lateral to allow Transco to receive natural gas and regasified LNG either from or via Natural Gas Pipeline Company of America (NGPL). Transco states that it would design, construct, own, and operate one 30-inch by 16-inch hot tap fitting with one 16-inch tap assembly, flow and pressure control facility, overpressure protection valve and controls, a 12-foot by 8-foot skid mounted instrument building, and other such other appurtenant facilities required to effect the interconnect to receive up to 200 MMcf per day of natural gas in Transco's Zone 2. Transco also states that NGPL would reimburse Transco for the estimated $1,140,000 construction cost of the proposed facilities.

Any questions concerning this application may be directed to Bela Patel, Transcontinental Gas Pipe Line Company, LLC, Post Office Box 1396, Houston, Texas 77251 or via telephone at (713) 215-2659.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. 2010-13370 Filed 6-2-10; 8:45 am]

BILLING CODE 6717-01-P